DEPARTMENT OF HOMELAND SECURITY

Federal Emergency Management Agency

[Docket ID FEMA-2015-0001]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of November 4, 2015 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: October 8, 2015.
Roy E. Wright,
Deputy Associate Administrator for Insurance and Mitigation, Department of Homeland Security, Federal Emergency Management Agency.

I. Non-watershed-based studies:

Community | Community map repository address
Maricopa County, Arizona, and Incorporated Areas
Docket No.: FEMA-B-1418
City of Avondale | Development and Engineering Services Department, 11465 West Civic Center Drive, Avondale, AZ 85323.
City of Chandler | Transportation and Delevopment, 215 East Buffalo Street, Chandler, AZ 85255.
City of Goodyear | Engineering Department, 14455 West Van Buren Street, Suite D 101, Goodyear, AZ 85338.
City of Mesa | Engineering Department, City Hall, 20 East Main Street, 5th Floor, Mesa, AZ 85211.
City of Phoenix | Street Transoportation Department, 200 West Washington Street, 5th Floor, Phoenix, AZ 85003.
City of Scottsdale | Planning Records, 7447 East Indian School Road, Suite 100, Scottsdale, AZ 85251.
Town of Gila Bend | Town Hall, 644 West Pima Street, Gila Bend, AZ 85337.
Town of Gilbert | Development Engineering, 90 East Civic Center Drive, Gilbert, AZ 85296.
Unincorporated Areas of Maricopa County | Flood Control District of Maricopa County, 2801 West Durango Street, Phoenix, AZ 85009.
Santa Barbara County, California, and Incorporated Areas
Docket No.: FEMA-B-1404
City of Santa Barbara | City Administrator, 630 Garden Street, Santa Barbara, CA 93101.
Unincorporated Areas of Santa Barbara County | Santa Barbara County Public Works Department, Water Resources Division 123 East Anapamu Street, Santa Barbara, CA 93101.
Maui County, Hawaii, and Incorporated Areas
Docket No.: FEMA-B-1440
Unincorporated Areas of Maui County | County of Maui Planning Department, 2220 Main Street, Suite 315, Wailuku, HI 96793.
Flathead County, Montana, and Incorporated Areas
Docket No.: FEMA-B-1418
City of Kalispell | Planning Director, Planning Department, 17 Second Street East, Suite 211, Kalispell, MT 59901.
City of Whitefish | Planning Director, Planning and Building Department, 1005C Baker Avenue, Whitefish, MT 59937.
Unincorporated Areas of Flathead County | Planning Director, Planning and Zoning Office, 1035 1st Avenue West, Kalispell, MT 59901.
Otero County, New Mexico, and Incorporated Areas
Docket No.: FEMA-B-1429
Unincorporated Areas of Otero County | Otero County Administration Building, 1101 New York Avenue, Room 105, Alamogordo, NM 88310.
Village of Tularosa | Otero County Administration Building, 1101 New York Avenue, Room 105, Alamogordo, NM 88310.

[FR Doc. 2015-27748 Filed 10-29-15; 8:45 am]

BILLING CODE 9110-12-P